DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces that 149 individuals were denied exemptions from the Federal vision standard applicable to interstate truck drivers and the reasons for the denials. The FMCSA has statutory authority to exempt individuals from vision standards if the exemptions granted will not compromise safety. The agency has concluded that granting these exemptions does not provide a level of safety that will equal or exceed the level of safety maintained without the exemptions for these commercial drivers.

FOR FURTHER INFORMATION CONTACT: Sandra Zywokarte, Office of Bus and Truck Standards and Operations, (MC-PSD), (202) 366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standard for a renewable 2-year period if it finds such an exemption would likely achieve a level of safety that is equivalent to, or greater than, the level that would be achieved absent such an exemption. (49 CFR 391.41(b)(10))

Accordingly, FMCSA evaluated 149 individual exemption requests on their merits and made a determination that these applicants do not satisfy the criteria established to demonstrate that granting an exemption is likely to achieve an equal or greater level of safety that exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 71 applicants lacked sufficient recent driving experience over three years:

Barclay, Jr., Richard | Goodway, David | Reed, Donald
Bell, Johnny | Halfhill, Tyrone | Reichert, Daniel
Bonney, Stephen | Harris, Clifford | Reyes, Angelo
Bosanek, Theodore | Hunter, Paul | Reynolds, Thomas
Brown, Brian | Ivie, Brent | Ryan, Paul
Brown, Norman | Jarvis, Monte | Schaaf, James
Browning, Raymond | Johnson, Terrell | Severson, Carrie
Browning, Jr., John | Kaufman, Chester | Smith, James
Cadwell, Robert | Keating, Carl | Sosa, Freddy
Carleton, David | Knox, Jr., Robert | Steele, Duane
Carson, Roger | Leitz, Jack | Stout, David
Cerri, Phillip | Majors, Jr., Stanley | Taylor, Timothy
Chamblee, William | Maloney, 3rd, John | Thomas, Steven
Cheatham, Lonas | Mannings, Christopher | Thomason, Douglas
Clemons, Curtis | Marancik, John | Thompson, John C.
Crise, Duane | Marple, Jay | Toombs, Marvin
Davis, Jr., William | Martin, Bradley | Turenne, Gary
Denne, Kenneth | Martin, George | Turner, Roy
Fraas, Jr., Louis | Melton, Charles | Tuttle, Brian
Frazier, Wiley | Moore, Timothy | Wilkinson, Sonya
French, Russell | Norton, Kenneth | Williams, James
Gann, Jr., Floyd | Pimentel, Luiz | Wilson, Leonard
Garner, Sr., Anthony | Pinard, Kregg | Winters, Timothy
Gingery, Nelson | Raby, Joel

One applicant, Mr. Jerry Ross, does not have experience operating a commercial motor vehicle (CMV) and therefore presented no evidence from which FMCSA can conclude that granting the exemption is likely to achieve a level of safety equal to that existing without the exemption.

The following 37 applicants do not have 3 years of experience driving a CMV on public highways with the vision deficiency:

Bacon, Nick | Huffman, Charles | Pryor, Ronald
Barnes, Jesse | Johnson, Daniel | Savely, Danny
Cannon, Lawrence | Jurgens, Merlyn | Schneider, Clifford
Chase, Michael | Martinez, Michael | Slingerland, Gerrit
Cloose, James | Maxwell, Brian | Smallwood, Jody
Collins, Kurt | McHugh, Jeanne | Tharp, Dustin
Davis, John | Montiel, Sr., Norbert | Warren, Lynn
Doucette, Joshua | Murray, Kevin | Watson, Larry
Giffin, Richard | Myron, James | Whitson, Christopher
Gifford, Delbert | Newman, Gordon | Wilbur, Richard
Guenther, Christopher | Parks, Sr., Benjamin | Williams, Eddie
Harrison, Troy | Peters, Ronald
Henson, Leon | Pitner, Edward

Five applicants do not have 3 years recent experience driving a CMV with the vision deficiency:

Camara, Mamadou

Little, Edward

Prentice, Nugent

Raatz, Richard

Randkin, David

The following 8 applicants do not qualify because they were charged with moving violation(s) in conjunction with CMV accident(s), which is a disqualifying offense under the exemption criteria:

Burke, Thomas

Davis, Sr., Eric

Margison, Samson

Milner, Robert

Mohr, James

Peters, Nathaniel

Potter, Douglas

Robinson, Bill

The following 4 applicants had more than two CMV moving violations during a 3-year period or while the applications were pending. Each applicant is only allowed two moving citations:

Hahn, George

McCone, Steve

Menken, David

Pasillas, Victor

The following 8 applicants' licenses were suspended during the 3-year period because of a moving violation. Applicants do not qualify for an exemption with a suspension during the 3-year period:

Cuddy, Randy

Eyre, Duane

Leffler, Terry

Melssen, Jeffrey

Phillips, Howard

Rosales, Guillermo

Shrewsbury, William

Williams, Jack

One applicant, Mr. Roger Keef, had two serious commercial motor vehicle violations within the 3-year period. Each applicant is allowed a total of two moving citations, of which only one can be serious.

One applicant, Mr. Thomas Jefferson, does not have verifiable proof of commercial driving experience during a 3-year period under normal highway operating conditions that would serve as an adequate predictor of future safety performance.

The following 9 applicants were involved in CMV accidents in which they contributed to the accident:

Benitez, Randy

Johnson, James

McFall, Norma

Rawson, Merlyn

Sanchez, Luis

Thompson, John R.

Turpaud, Robert

Wilson, Calvin

Yocum, Paul

One applicant, Mr. Limmie Sweet, does not hold a license which allows operation of a CMV over 10,000 pounds gross vehicle weight rating (GVWR) for all or part of the 3-year period.

One applicant, Mr. James Peterson, was denied for multiple reasons.

Finally, two applicants, James Baldwin, Sr. and Robert Holecek, were denied because their vision had not been stable within the three-year period.

Issued on: April 22, 2003.
Pamela M. Pelcovits,
Acting Associate Administrator for Policy and Program Development.

[FR Doc. 03-10449 Filed 4-28-03; 8:45 am]

BILLING CODE 4910-EX-P